DEPARTMENT OF ENERGY

[FE Docket Nos. 14-28-LNG; 14-26-NG; 14-27-LNG; 14-33-NG; 13-155-LNG; 14-30-LNG]

Universal LNG Solutions Inc.; Noble Americas Gas & Power Corp.; Shell NA LNG LLC; Toyota Motor Engineering & Manufacturing North America, Inc.; Conocophillips Alaska Natural Gas Corporation; BG LNG Services, LLC: Orders Granting Authority To Import and Export Natural Gas, To Import and Export Liquefied Natural Gas and Vacating Prior Authority During April 2014

AGENCY: Office of Fossil Energy, Department of Energy (DOE).

ACTION: Notice of orders.

SUMMARY: The Office of Fossil Energy (FE) of the Department of Energy gives notice that during March 2014, it issued orders granting authority to import and export natural gas, to import and export liquefied natural gas and to vacate prior authority. These orders are summarized in the attached appendix and may be found on the FE Web site at http://www.fossil.energy.gov/programs/gasregulation/authorizations/Orders-2014.html. They are also available for inspection and copying in the Office of Fossil Energy, Office of Oil and Gas Global Security and Supply, Docket Room 3E-033, Forrestal Building, 1000 Independence Avenue SW., Washington, DC 20585, (202) 586-9478. The Docket Room is open between the hours of 8 a.m. and 4:30 p.m., Monday through Friday, except Federal holidays.

Issued in Washington, DC, on May 8, 2014.
John A. Anderson,
Director, Division of Natural Gas Regulatory Activities, Office of Oil and Gas Global Security and Supply, Office of Oil and Natural Gas.

Appendix

DOE/FE Orders Granting Import/Export Authorizations
3414 | 04/25/14 | 14-28-LNG | Universal LNG Solutions Inc | Order granting blanket authority to export LNG to Canada/Mexico in ISO Containers transported by vessel, and to import LNG from various international sources in ISO Containers transported by vessel.
3415 | 04/10/14 | 14-26-NG | Noble Americas Gas & Power Corp | Order granting blanket authority to import/export natural gas from/to Canada/Mexico, to import LNG from various international sources by vessel and to vacate prior authority—Order 3098.
3416 | 04/10/14 | 14-27-LNG | Shell NA LNG LLC | Order granting blanket authority to import LNG from various international sources by vessel.
3417 | 04/10/14 | 14-33-NG | Toyota Motor Engineering & Manufacturing North America, Inc | Order granting blanket authority to export natural gas to Mexico.
3418 | 04/14/14 | 13-155-LNG | ConocoPhillips Alaska Natural Gas Corporation | Order granting blanket authority to export LNG by vessel from the Kenai LNG Facility near Kenai, Alaska to Non-Free Trade Agreement nations.
3419 | 04/10/14 | 14-30-LNG | BG LNG Services, LLC | Order granting blanket authority to import LNG from various international sources by vessel.

[FR Doc. 2014-12184 Filed 5-27-14; 8:45 am]

BILLING CODE 6450-01-P